DEPARTMENT OF ENERGY

Federal Energy Regulatory Commission

[Docket No. EL08-22-000]

Missouri River Energy Services; Western Minnesota Municipal Power Agency; Notice of Filing

December 31, 2007.

Take notice that on December 20, 2007, pursuant to Rule 207(a)(2) and Rule 2004 of the Rules of Practices and Procedure of the Federal Energy Regulatory Commission, 18 CFR 385.207(a)(2) and 385.2004 (2006), Missouri River Energy Services (MRES) and Western Minnesota Municipal Power Agency (Western Minnesota) filed a petition for declaratory order permitting MRES and Western Minnesota to combine their financial information for purposes of the variances being sought by MRES to the Attachment O transmission formula under the Midwest Independent Transmission System Operator, Inc.'s Open Access Transmission and Energy Markets Tariff. MRES and Western Minnesota also submit an exemption of the application fee, pursuant to section 381.108 of the Commission's Rules and Regulations.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. Such notices, motions, or protests must be filed on or before the comment date. On or before the comment date, it is not necessary to serve motions to intervene or protests on persons other than the Applicant.

The Commission encourages electronic submission of protests and interventions in lieu of paper using the “eFiling” link at http://www.ferc.gov. Persons unable to file electronically should submit an original and 14 copies of the protest or intervention to the Federal Energy Regulatory Commission, 888 First Street, NE., Washington, DC 20426.

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Comment Date: 5 p.m. Eastern Time on January 22, 2008.

Kimberly D. Bose,
Secretary.

Docket No. EL08-22-000 3

[FR Doc. E8-236 Filed 1-9-08; 8:45 am]

BILLING CODE 6717-01-P